DEPARTMENT OF ENERGY

Federal Energy Regulatory Commission

[Docket No. RP98-39-022]

Northern Natural Gas Company; Notice of Filing of Annual Report

May 25, 2000.

Take notice that on May 18, 2000, Northern Natural Gas Company (Northern) submitted its annual report pursuant to the Commissioner's Order in Public Service Company of Colorado et al., Docket Nos. RP97-369-000, et al.

Northern further states that copies of the filing have been mailed to each of its affected jurisdictional sales customers.

Any person desiring to protest said filing should file a protest with the Federal Energy Regulatory Commission, 888 First Street, N.E., Washington, DC 20426, in accordance with Section 385.211 of the Commission's Rules and Regulations. All such protests must be filed on or before June 1, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-13625 Filed 5-31-00; 8:45 am]

BILLING CODE 6717-01-M